NATIONAL SCIENCE FOUNDATION

STEM Education Advisory Panel; Notice of Meeting

In accordance with the Federal Advisory Committee Act (Pub. L. 92-463, as amended), the National Science Foundation (NSF) announces the following meeting:

Name and Committee Code: STEM Education Advisory Panel (#2624).

Date and Time: April 15, 2020; 10:00 a.m.-12:00 p.m.

Place: NSF, 2415 Eisenhower Avenue, Alexandria, VA 22314 (VIRTUAL).

Type of Meeting: Open.

Contact Person: Keaven Stevenson, Directorate Administrative Coordinator, Room C 11044, National Science Foundation, 2415 Eisenhower Avenue, Alexandria, VA 22314 Contact Information: 703-292-8663/kstevens@nsf.gov.

Purpose of Meeting: To provide an update on the progress of the Committee on Science, Technology, Engineering, and Mathematics Education (CoSTEM).

Agenda: STEM Education Advisory Panel agenda attached. The public may register to attend the meeting at https://nsf.gov/ehr/STEMEdAdvisory.jsp.

Dated: March 13, 2020.
Crystal Robinson,
Committee Management Officer.

[FR Doc. 2020-05689 Filed 3-18-20; 8:45 am]

BILLING CODE 7555-01-P